FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16587N.

Name: Fescargo Corporation.

Address: 1145 West Walnut Street, Compton, CA 90220.

Date Revoked: March 7, 2002.

Reason: Failed to maintain valid bond.

License Number: 12086N.

Name: Globe Cargo, Inc.

Address: 12621 Chadron Avenue, Suite B, Hawthorne, CA 90250.

Date Revoked: March 1, 2002.

Reason: Failed to maintain valid bond.

License Number: 16036N.

Name: House to House International Freight Forwarders, Inc.

Address: 2103 NW 79th Avenue, Miami, FL 33122.

Date Revoked: March 7, 2002.

Reason: Failed to maintain a valid bond.

License Number: 3903F.

Name: Jagro California, Inc.

Address: c/o Jagro Customs Brokers and International Freight Forwarders, Inc., 290 Nye Avenue, Irvington, NJ 07111.

Date Revoked: February 13, 2002.

Reason: Surrendered license voluntarily.

License Number: 4304F.

Name: K.A.K. LLC dba Hoosier Forwarders.

Address: 1507 South Olive, South Bend, IN 46619.

Date Revoked: February 12, 2002.

Reason: Surrendered license voluntarily.

License Number: 10380N.

Name: Pana-York Maritima, Ltd.

Address: 411A N. Wood Avenue, Suite 5, Linden, NJ 07036.

Date Revoked: February 27, 2002.

Reason: Failed to maintain a valid bond.

License Number: 3406N.

Name: Simmons International Express, Inc.

Address: 101 E. Clarendon Street, Prospect Heights, IL 60070.

Date Revoked: January 4, 2002.

Reason: Failed to maintain a valid bond.

License Number: 15129N.

Name: Vanguard Moving & Storage Co., Inc. dba Guardship.

Address: 1901 Light Street, Baltimore, MD 21230.

Date Revoked: March 7, 2002.

Reason: Failed to maintain a valid bond.

Sandra L. Kusumoto,
Director, Bureau of Consumer Complaints and Licensing.

[FR Doc. 02-7371 Filed 3-26-02; 8:45 am]

BILLING CODE 6730-01-P